DEPARTMENT OF COMMERCE

National Oceanic and Atmospheric Administration

50 CFR Part 660

[RTID 0648-XE531]

Fisheries Off West Coast States; Coastal Pelagic Species Fisheries; Amendment 23 to the Coastal Pelagic Species Fishery Management Plan

AGENCY: National Marine Fisheries Service (NMFS), National Oceanic and Atmospheric Administration (NOAA), Commerce.

ACTION: Announcement of availability of an amendment to a fishery management plan; announcement of availability of a draft environmental assessment; request for comments.

SUMMARY: The Pacific Fishery Management Council has submitted Amendment 23 to the Coastal Pelagic Species (CPS) Fishery Management Plan (FMP) for review by the Secretary of Commerce. If approved, Amendment 23 would implement a revised rebuilding plan for the northern subpopulation of Pacific sardine. This proposed amendment is intended to promote the goals and objectives of the Magnuson-Stevens Fishery Conservation and Management Act (Magnuson-Stevens Act or MSA), the CPS FMP, and other applicable laws. NMFS will consider public comments in deciding whether to approve, disapprove, or partially approve Amendment 23. In accordance with the National Environmental Policy Act of 1969 (NEPA), as amended, NMFS also announces the availability of a draft environmental assessment that analyzes the potential effects of the associated proposed amendment.

DATES: Comments must be received by May 12, 2025 to be considered in the decision whether to approve, disapprove, or partially approve Amendment 23.

ADDRESSES: You may submit comments on this document, identified by NOAA-NMFS-2024-0143, by the following method:

• Electronic Submissions: Submit all electronic public comments via the Federal e-Rulemaking Portal. Go to https://www.regulations.gov and enter NOAA-NMFS-2024-0143 in the Search box. Click the “Comment” icon, complete the required fields, and enter or attach your comments.

Instructions: Comments must be submitted by the above method to ensure that the comments are received, documented, and considered by NMFS. Comments sent by any other method, to any other address or individual, or received after the end of the comment period, may not be considered. All comments received are a part of the public record and will generally be posted for public viewing on https://www.regulations.gov without change. All personal identifying information (e.g., name, address, etc.) submitted voluntarily by the sender will be publicly accessible. Do not submit confidential business information, or otherwise sensitive or protected information. NMFS will accept anonymous comments (enter “N/A” in the required fields if you wish to remain anonymous). Please specify whether the comments provided are associated with the proposed amendment, draft environmental assessment, or other supporting documents.

Electronic Access

This action is accessible via the internet on the Office of the Federal Register website at https://www.federalregister.gov/. Additionally, background information and documents are available on the Pacific Fishery Management Council's website at https://www.pcouncil.org/fishery-management-plan-and-amendments/.

FOR FURTHER INFORMATION CONTACT: Katie Davis, Sustainable Fisheries Division, NMFS, (323) 372-2126 katie.davis@noaa.gov; or Katrina Bernaus, Staff Officer, Pacific Fishery Management Council, (503) 820-2420, katrina.bernaus@pcouncil.org.

SUPPLEMENTARY INFORMATION: The CPS fishery in the U.S. exclusive economic zone off the west coast is managed under the CPS FMP. The Pacific Fishery Management Council (Council) developed the CPS FMP pursuant to the Magnuson-Stevens Act (16 U.S.C. 1801 et seq.). The Secretary of Commerce approved the CPS FMP and implemented the provisions of the plan through regulations at 50 CFR part 660, subpart I. Species managed under the CPS FMP include Pacific sardine, Pacific mackerel, jack mackerel, northern anchovy, market squid, and krill.

The Magnuson-Stevens Act requires each regional fishery management council to submit any amendment to an FMP to NMFS for review and approval, disapproval, or partial approval. The Magnuson-Stevens Act also requires that NMFS, upon receiving an amendment to an FMP, immediately publish notification in the Federal Register that the amendment is available for public review and comment. This notification announces that the proposed Amendment 23 to the CPS FMP and a draft Environmental Assessment (EA) is available for public review and comment. The draft EA for this action is provided as a joint NEPA and MSA analysis, assessing the environmental impacts of the proposed action and its reasonable alternatives (the NEPA analysis), and analysis of how the alternatives align with the 10 National Standards in the MSA (the MSA analysis). NMFS will consider the public comments received during the comment period described above in determining whether to approve, disapprove, or partially approve Amendment 23.

Background

In June 2019, NMFS declared the northern subpopulation of Pacific sardine (hereafter, Pacific sardine) overfished. This determination was based on the results of an April 2019 stock assessment, which indicated that the biomass of Pacific sardine had dropped below the overfished threshold of 50,000 metric tons (mt), as defined in the CPS FMP. The Magnuson-Stevens Act requires that NMFS and the Council prepare and implement a rebuilding plan for a stock that is overfished within 2 years of a stock being declared overfished. In June 2021, the Council recommended and NMFS implemented a Pacific sardine rebuilding plan as Amendment 18 to the CPS FMP (86 FR 33142, June 14, 2021).

The purpose of this FMP amendment is to revise the rebuilding plan for Pacific sardine to rely on ABCs/ACLs to achieve the rebuilding target in compliance with a Court order in Oceana v. Raimondo et al., No. 5:21-cv-05407-VKD (Northern District of California, filed July 14, 2021). The rebuilding target for Pacific sardine is 150,000 mt age 1+ biomass, the minimum time to rebuild is 12 years (TMIN), and the maximum time for rebuilding is 24 years (TMAX). The CPS FMP already dictates a management framework that is precautionary, including prohibiting the directed commercial fishery when the biomass is below 150,000 mt.

At its November 2024 meeting, the Council considered six alternatives to revise the Pacific sardine rebuilding plan. The primary change from the alternatives considered for Amendment 18 is the addition of reasonable alternatives that would implement specific ACLs based on amounts analyzed in support of the Amendment 18 rebuilding plan. A discussion of the six alternatives and their relative impacts on the natural and human environment as a result of this action is provided in the draft EA.

The Council recommended Alternative 6—Mixed Rate U.S. Harvest—as their final preferred alternative (FPA). Under Alternative 6, an ACL would be set conditional upon certain tiered biomass levels, allowing the ACL to adjust based on the status of the stock.

Under 50,000 mt (Overfished Status)

If the age 1+ biomass is 50,000 mt or less in a given fishing year, the ACL for that year would be set at 2,200 mt or the calculated ABC, whichever is less.

Over 50,000 mt (Rebuilding Status)

If the age 1+ biomass is greater than 50,000 mt but less than 150,000 mt (rebuilding target) in a given fishing year, the ACL would be set at 5 percent of the age 1+ biomass for that year or the calculated ABC, whichever is less.

Alternative 6 is expected to provide stability for ongoing live bait, minor directed, and incidental fisheries at low stock biomass levels, while allowing flexibility for the ACL to increase if and when stock biomass increases.

The Council also considered whether TTARGET (the specified time period for rebuilding the stock), which was 14 years under Amendment 18, had changed, given their final preferred rebuilding strategy. Alternative 6 is expected to rebuild within 17 years. Given this FPA, the Council selected a resulting TTARGET of 17 years to reach the target rebuilding biomass level of 150,000 mt. This TTARGET was determined to be the shortest time possible to rebuild the stock, taking into account the biology of the stock, the needs of fishing communities, and the interaction of the stock within the marine ecosystem.

Summary of Proposed Changes to the Coastal Pelagic Species Fishery Management Plan

Amendment 23 would revise the Pacific sardine rebuilding plan in section 4.5 of the CPS FMP to update the TTARGET and include the proposed ACLs for Pacific sardine (as detailed in the previous section of this notification). There are no implementing regulations associated with Amendment 23; therefore, NMFS will not promulgate proposed and final rules to implement this amendment.

Authority: 16 U.S.C. 1801 et seq.

Dated: March 7, 2025.
Karen H. Abrams,
Acting Director, Office of Sustainable Fisheries, National Marine Fisheries Service.

[FR Doc. 2025-03945 Filed 3-11-25; 8:45 am]

BILLING CODE 3510-22-P